DEPARTMENT OF COMMERCE

International Trade Administration

[A-533-883, A-549-837, A-588-878]

Glycine From India, Japan, and Thailand: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on glycine from India, Japan, and Thailand would be likely to lead to the continuation or recurrence of dumping at the levels indicated in the “Final Results of Sunset Reviews” section of this notice.

DATES: Applicable September 12, 2024.

FOR FURTHER INFORMATION CONTACT: Brian Smith, AD/CVD Operations, Office VIII, Enforcement and Compliance, International Trade Administration, U.S. Department of Commerce, 1401 Constitution Avenue NW, Washington, DC 20230; telephone: (202) 482-1766.

SUPPLEMENTARY INFORMATION:

Background

On June 21, 2019, Commerce published in the Federal Register the AD orders on glycine from India and Japan and subsequently published the AD order for the same product from Thailand on October 18, 2019.¹ On May 1, 2024, Commerce published the notice of initiation of the first sunset reviews of the Orders, pursuant to section 751(c)(2) of the Tariff Act of 1930, as amended (the Act).²

¹ See Glycine from India and Japan: Amended Final Affirmative Antidumping Duty Determination and Antidumping Duty Orders, 84 FR 29170 (June 21, 2019); and Glycine from Thailand: Antidumping Duty Order, 84 FR 55912 (October 18, 2019) (collectively, Orders).

² See Initiation of Five-Year (Sunset) Reviews, 88 FR 50110 (May 1, 2024).

On May 13, 2024, Commerce received notices of intent to participate in these reviews from Deer Park Glycine, LLC of Deer Park, Texas, which is a subsidiary of GEO Specialty Chemicals, Inc., and Chattem Chemicals, Inc. of Chattanooga, Tennessee (collectively, the domestic interested parties), within the deadline specified in 19 CFR 351.218(d)(1)).³ The domestic interested parties claimed interested party status under section 771(9)(C) of the Act as producers of the domestic like product in the United States.⁴ In May, 2024, Commerce received adequate substantive responses from the domestic industry parties within the 30-day deadline specified in 19 CFR 351.218(d)(3)(i).⁵ We received no substantive responses from respondent interested parties.

³ See Domestic Interested Parties' Letter, “Domestic Interested Parties' Notification of Intent to Participate,” dated May 13, 2024.

⁴ Id.

⁵ See Domestic Interested Parties' Letters, “Sunset Review (1st Review) of the Antidumping Duty Order on Glycine from India: Domestic Interested Parties' Substantive Response to the Notice of Initiation, dated May 20, 2024; “Domestic Interested Parties' Substantive Response to the Notice of Initiation,” dated May 20, 2024; “Sunset Review (1st Review) of the Antidumping Duty Order on Glycine from Thailand: Domestic Interested Parties' Substantive Response to the Notice of Initiation,” dated May 21, 2024; and “Sunset Review (1st Review) of the Antidumping Duty Order on Glycine from Japan: Domestic Interested Parties' Substantive Response to the Notice of Initiation,” dated May 21, 2024.

On June 21, 2024, Commerce notified the U.S. International Trade Commission that it did not receive substantive responses from any respondent interested parties.⁶ As a result, pursuant to section 751(c)(3)(B) of the Act and 19 CFR 351.218(e)(1)(ii)(C)(2), Commerce conducted expedited (120-day) sunset reviews of the Orders.

⁶ See Commerce's Letter, “Sunset Reviews Initiated on May 1, 2024,” dated June 21, 2024.

On July 22, 2024, Commerce tolled certain deadlines in these administrative proceedings by seven days.⁷ The deadline for these final results of sunset reviews is September 5, 2024.

⁷ See Memorandum, “Tolling of Deadlines for Antidumping and Countervailing Duty Proceedings,” dated July 22, 2024.

Scope of the Orders

The products covered by these Orders are glycine from India, Japan, and Thailand. For a full description of the scope of the Orders, see the Issues and Decision.⁸

⁸ See Memorandum, “Issues and Decision Memorandum for the Final Results of the Expedited First Sunset Reviews of the Antidumping Duty Orders on Glycine from India, Japan, and Thailand,” dated concurrently with, and hereby adopted by, this notice (Issues and Decision Memorandum).

Analysis of Comments Received

A complete discussion of all issues raised in these sunset reviews is contained in the accompanying Issues and Decision Memorandum.⁹ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁹ Id.

Final Results of Sunset Reviews

Pursuant to sections 751(c)(1) and 752(c)(1) and (3) of the Act, Commerce determines that revocation of the Orders would likely lead to the continuation or recurrence of dumping and that the magnitude of the dumping margins likely to prevail would be weighed-average dumping margins up to 13.61 percent for India, 86.22 percent for Japan, and 227.17 percent for Thailand.¹⁰

¹⁰ See Orders.

Administrative Protective Order

This notice serves as the only reminder to interested parties subject to an administrative protective order (APO) of their responsibility concerning the return/destruction or conversion to judicial protective order of proprietary information disclosed under APO in accordance with 19 CFR 351.305(a). Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act.

Dated: September 5, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2024-20671 Filed 9-11-24; 8:45 am]

BILLING CODE 3510-DS-P